ENVIRONMENTAL PROTECTION AGENCY

40 CFR Part 52

[NC 102-200304(a); FRL-7425-2]

Approval and Promulgation of Implementation Plans North Carolina: Approval of Revisions to Miscellaneous Regulations Within the North Carolina State Implementation Plan

AGENCY: Environmental Protection Agency (EPA).

ACTION: Direct final rule.

SUMMARY: On August 7, 2002, the North Carolina Department of Environment and Natural Resources submitted revisions to the North Carolina State Implementation Plan (SIP). North Carolina is adopting rule 15A NCAC 2D .0542, Control of Particulate Emissions from Cotton Ginning Operations. In addition, North Carolina is amending rules 15A NCAC 2D .0504, Particulates from Wood Burning Indirect Heat Exchangers, .0927, Bulk Gasoline Terminals, .0932, Gasoline Truck Tanks and Vapor Collection Systems and 15A NCAC 2Q .0102, Activities Exempt From Permitting Requirements and .0104, Where to Obtain and File Permit Applications. The EPA is approving these revisions.

DATES: This direct final rule is effective February 25, 2003 without further notice, unless EPA receives adverse comment by January 27, 2003. If adverse comment is received, EPA will publish a timely withdrawal of the direct final rule in the Federal Register and inform the public that the rule will not take effect.

ADDRESSES: All comments should be addressed to: Randy Terry at the EPA, Region 4 Air Planning Branch, 61 Forsyth Street, SW, Atlanta, Georgia 30303-8960.

Copies of the State submittal(s) are available at the following addresses for inspection during normal business hours:

Environmental Protection Agency, Region 4, Air Planning Branch, 61 Forsyth Street, SW, Atlanta, Georgia 30303-8960. Randy Terry, 404/562-9032.

North Carolina Department of Environment, Health, and Natural Resources, 512 North Salisbury Street, Raleigh, North Carolina 27604.

FOR FURTHER INFORMATION CONTACT: Randy B. Terry, Regulatory Development Section, Air Planning Branch, Air, Pesticides and Toxics Management Division, Region 4, U.S. Environmental Protection Agency, 61 Forsyth Street, SW, Atlanta, Georgia 30303-8960. The telephone number is (404) 562-9032. Mr. Terry can also be reached via electronic mail at terry.randy@epa.gov.

SUPPLEMENTARY INFORMATION:

I. Background

On August 7, 2002, the North Carolina Department of Environment and Natural Resources submitted revisions to the North Carolina SIP. These revisions involve the adoption of rule 15A NCAC 2D .0542, Control of Particulate Emissions from Cotton Ginning Operations, the amending of multiple rules within Section 15A NCAC 2D .0900 Volatile Organic Compounds, and several other miscellaneous revisions. An analysis of each of the major revisions submitted is listed below.

II. Analysis of State's Submittal

15A NCAC 2D

.0504 Particulates From Wood Burning Indirect Heat Exchangers

This rule has been amended to correct the reference to paragraph (d) of this rule to paragraph (f).

.0542 Control of Particulate Emissions from Cotton Ginning Operations

This rule has been adopted to establish particulate control requirements specific to cotton ginning operations. The rule applies to all cotton gins and requires one or more 1D-3D cyclones or an equivalent device to achieve 95 percent efficiency on all high pressure exhausts and lint cleaning exhausts, and one or more 2D-2D cyclones or an equivalent device to achieve 90 percent efficiency on all remaining low pressure exhausts. Small gins that do not already have control devices on lint cleaners and battery condensers are not required to install controls on them. The rule also requires:

• Raincaps to be removed,

• Sp;an inspection and maintenance schedule,

• A three-sided enclosure or a wet suppression system at the trash cyclone dump area, trash stacker/composting,

• Daily cleaning of lint from non-storage areas of the gin yard,

• Cleaning of lint and debris from paved areas,

• Dust suppression and speed limits in unpaved areas,

• Covering of trucks transporting trash material,

• Removal of overspill from trucks, and

• Daily cleaning of the trash hopper dump area.

In addition, the rule requires a baseline study of the air flow system to ensure air flows are within design range for the collection device and monitoring devices for pressure, flow rate, and other operating conditions to ensure proper operation an maintenance of the control devices. The owner or operator is also required to take and record monthly static pressure readings, conduct daily inspections of the system and record problems and corrective actions in a logbook, and at the conclusion of the season conduct an inspection to identify all maintenance activities and repairs needed prior to the next season. The rule also requires the owner to keep records of parameters established in the baseline study, monthly static pressure checks, observations of daily inspections and corrective actions. Gin owners or operators are also required to submit an annual report of the number of bales of cotton produced during the previous ginning season and a schedule of repair and maintenance to be conducted prior to the start of the next season. The rule also contains provisions for request and approval of alternative control measures.

.0927 Bulk Gasoline Terminals and .0932 Gasoline Truck Tanks and Vapor Collection Systems

These rules have been amended to require the owner or operator of the truck tank to file a copy of its most recent leak tightness certification test with bulk gasoline terminals where the tank is loaded. The amendments also require bulk gasoline terminals to keep on file a copy of the leak tight certification for each truck tank that they load.

15A NCAC 2Q

.0102 Activities Exempt From Permitting Requirements

This rule is being amended to add language that allows the Director, if he finds that an activity exempted under paragraph (b) of this rule is in violation of or has violated a rule in 15A NCAC 2D., to revoke the permit exemption for that activity and require that activity to be permitted under this Subchapter.

.0104 Where to Obtain and File Permit Applications

This rule is being amended to correct the address for the North Carolina Division of Air Quality.

III. Final Action

EPA is approving the aforementioned changes to the SIP because the revisions are consistent with Clean Air Act and EPA regulatory requirements. The EPA is publishing this rule without prior proposal because the Agency views this as a noncontroversial submittal and anticipates no adverse comments. However, in the proposed rules section of this Federal Register publication, EPA is publishing a separate document that will serve as the proposal to approve the SIP revision should adverse comments be filed. This rule will be effective February 25, 2003 without further notice unless the Agency receives adverse comments by January 27, 2003.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on February 25, 2003 and no further action will be taken on the proposed rule. Please note that if we receive adverse comment on an amendment, paragraph, or section of this rule and if that provision may be severed from the remainder of the rule, we may adopt as final those provisions of the rule that are not the subject of an adverse comment.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 25, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements.

Dated: October 31, 2002.
A. Stanley Meiburg,
Acting Regional Administrator, Region 4.

PART 52—[AMENDED]

1. The authority for citation for part 52 continues to read as follows:

Authority: 42 U.S.C. 7401 et seq.

Subpart II—North Carolina

2. In § 52.1770(c), Table 1 is amended to read as follows:

a. Under subchapter 2D, section .0500, by adding a new entry .0542, and revising entry .0504;

b. Under subchapter 2D, section .0900, by revising entries .0927 and .0932; and

c. Under subchapter 2Q, section .0100, by revising entries .0102 and .0104.

§ 52.1770 Identification of plan.

* * * * *

(c) * * *

Table 1—EPA Approved North Carolina Regulations
State citation | Title/subject | State effective date | EPA approval date | Comments
Subchapter 2D | Air Pollution Control Requirements
* * * * * * *
Section .0500 | Emissions Control Standards
* * * * * * *
Sect. .0504 | Particulates From Wood Burning Indirect Heat Exchangers | 7/01/02 | 12/27/02 |
* * * * * * *
Sect. .0542 | Control of Particulate Emissions From Cotton Ginning Operations | 07/01/02 | 12/27/02 |
* * * * * * *
Section .0900 | Volatile Organic Compounds
* * * * * * *
Sect. .0927 | Bulk Gasoline Terminals | 07/01/02 | 12/27/02 |
* * * * * * *
Sect. .0932 | Gasoline Truck Tanks and Vapor Collection Systems | 07/01/02 | 12/27/02 |
* * * * * * *
Subchapter 2Q | Air Quality Permits
Section .0100 | General Provisions
* * * * * * *
Sect. .0102 | Activities Exempt From Permitting Requirements | 07/01/02 | 12/27/02 |
* * * * * * *
Sect. .0104 | Where to Obtain and File Permit Applications | 07/01/02 | 12/27/02 |
* * * * * * *

* * * * *

[FR Doc. 02-32137 Filed 12-26-02; 8:45 am]

BILLING CODE 6560-50-P